Executive Order 13889 of September 27, 2019

Continuance of Certain Federal Advisory Committees

By the authority vested in me as President, by the Constitution and the laws of the United States of America, and consistent with the provisions of the Federal Advisory Committee Act, as amended (5 U.S.C. App.), it is hereby ordered as follows:

Section 1. Each advisory committee listed below is continued until September 30, 2021.

(a) Committee for the Preservation of the White House; Executive Order 11145, as amended (Department of the Interior).

(b) President's Commission on White House Fellowships; Executive Order 11183, as amended (Office of Personnel Management).

(c) President's Committee on the National Medal of Science; Executive Order 11287, as amended (National Science Foundation).

(d) President's Export Council; Executive Order 12131, as amended (Department of Commerce).

(e) President's Committee on the International Labor Organization; Executive Order 12216, as amended (Department of Labor).

(f) President's National Security Telecommunications Advisory Committee; Executive Order 12382, as amended (Department of Homeland Security).

(g) National Industrial Security Program Policy Advisory Committee; Executive Order 12829, as amended (National Archives and Records Administration).

(h) Trade and Environment Policy Advisory Committee; Executive Order 12905 (Office of the United States Trade Representative).

(i) Governmental Advisory Committee to the United States Representative to the North American Commission for Environmental Cooperation; Executive Order 12915 (Environmental Protection Agency).

(j) National Advisory Committee to the United States Representative to the North American Commission for Environmental Cooperation; Executive Order 12915 (Environmental Protection Agency).

(k) Good Neighbor Environmental Board; Executive Order 12916, as amended (Environmental Protection Agency).

(l) Presidential Advisory Council on HIV/AIDS; Executive Order 12963, as amended (Department of Health and Human Services).

(m) President's Committee for People with Intellectual Disabilities; Executive Order 12994, as amended (Department of Health and Human Services).

(n) Advisory Board on Radiation and Worker Health; Executive Order 13179 (Department of Health and Human Services).

(o) National Infrastructure Advisory Council; Executive Order 13231, as amended (Department of Homeland Security).

(p) President's Council on Sports, Fitness, and Nutrition; Executive Order 13265, as amended (Department of Health and Human Services).

(q) President's Advisory Commission on Asian Americans and Pacific Islanders; Executive Order 13872 (Department of Commerce).

(r) President's Council of Advisors on Science and Technology; Executive Order 13539, as amended (Department of Energy).

(s) Interagency Task Force on Veterans Small Business Development; Executive Order 13540 (Small Business Administration).

(t) State, Local, Tribal, and Private Sector (SLTPS) Policy Advisory Committee; Executive Order 13549 (National Archives and Records Administration).

(u) President's Advisory Commission on Educational Excellence for Hispanics; Executive Order 13555 (Department of Education).

(v) President's Advisory Commission on Educational Excellence for African Americans; Executive Order 13621 (Department of Education).

(w) President's Advisory Council on Doing Business in Africa; Executive Order 13675, as amended (Department of Commerce).

(x) Commerce Spectrum Management Advisory Committee; initially established pursuant to Presidential Memorandum on Improving Spectrum Management for the 21st Century (November 30, 2004) (Department of Commerce).

(y) National Space-Based Positioning, Navigation, and Timing Advisory Board; National Security Presidential Directive-39, “U.S. National Space-Based Position, Navigation, and Timing Policy” (December 8, 2004) (National Aeronautics and Space Administration).

(z) San Juan Islands National Monument Advisory Committee; Proclamation 8947 of March 25, 2013 (Department of the Interior).

(aa) Bears Ears National Monument Advisory Committee; Proclamation 9558 of December 28, 2016, as amended (Department of the Interior).

(bb) Gold Butte National Monument Advisory Committee; Proclamation 9559 of December 28, 2016 (Department of the Interior).

(cc) Grand Staircase-Escalante National Monument Advisory Committee; Proclamation 9682 of December 4, 2017 (Department of the Interior).

(dd) President's Board of Advisors on Historically Black Colleges and Universities; Executive Order 13779 (Department of Education).

Sec. 2. Notwithstanding the provisions of any other Executive Order, the functions of the President under the Federal Advisory Committee Act that are applicable to the committees listed in section 1 of this order shall be performed by the head of the department or agency designated after each committee, in accordance with the regulations, guidelines, and procedures established by the Administrator of General Services.

Sec. 3. Sections 1 and 2 of Executive Order 13811 of September 29, 2017, are hereby superseded by sections 1 and 2 of this order.

Sec. 4. This order shall be effective September 30, 2019.

THE WHITE HOUSE,

September 27, 2019.

[FR Doc. 2019-21630

Filed 10-1-19; 11:15 am]

Billing code 3295-F0-P